DEPARTMENT OF HEALTH AND HUMAN SERVICES

National Institutes of Health

Center for Scientific Review; Amended Notice of Meeting

Notice is hereby given of a change in the meeting of the Center for Scientific Review Special Emphasis Panel Small Business Activities: Cardiovascular and Hematology, June 19, 2025, 09:00 a.m. to June 20, 2025, 06:00 p.m., National Institutes of Health, Rockledge II, 6701 Rockledge Drive, Bethesda, MD 20892 which was published in the Federal Register on April 18, 2025, 90 FR 16529 Doc 2025-06751.

This meeting is being amended to change the meeting dates from June 19-20, 2025, to June 25-26, 2025. The meeting is closed to the public.

Dated: May 16, 2025.
Bruce A. George,
Program Analyst, Office of Federal Advisory Committee Policy.

[FR Doc. 2025-09121 Filed 5-20-25; 8:45 am]

BILLING CODE 4140-01-P